DEPARTMENT OF DEFENSE

Office of the Secretary

[Transmittal Nos. 11-24]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-24 with attached transmittal and policy justification.

Dated: October 20, 2011.
Aaron Siegel,
Alternate OSD Federal Register Liaison Officer, Department of Defense.

BILLING CODE 5001-06-P

BILLING CODE 5001-06-P

Transmittal No. 11-24

Notice of Proposed Issuance of Letter of Offer Pursuant to Section 36(b)(1) of the Arms Export Control Act, as Amended

(i) Prospective Purchaser: France.

(ii) Total Estimated Value:

Major Defense Equipment * | $150 million.
Other | $30 million.
Total | $180 million.
* As defined in Section 47(6) of the Arms Export Control Act.

(iii) Description and Quantity or Quantities of Articles or Services under Consideration for Purchase: upgrade of four E-2C HAWKEYE Aircraft with weapon system sensor upgrades with Mode 5/S Identification Friend or Foe (IFF). Included are 5 APX-122 IFF Mode 5/S Interrogator Systems, 5 APX-123 IFF Mode 5/S Transponder Systems, and 5 ALQ-217 Electronic Support Measure Systems. In addition, this proposed sale will include related spare and repair parts, support and test equipment, weapon system support, development, publications and technical documentation, integration and testing, personnel training and equipment, U.S. Government and contractor engineering and logistics personnel support services, and other related elements of logistics support.

(iv) Military Department: Navy (LHG).

(v) Prior Related Cases: Multiple cases dating back to 1995 .

(vi) Sales Commission, Fee, etc., Paid, offered, or Agreed to be Paid: None.

(vii) Sensitivity of Technology Contained in the Defense Article or Defense Services Proposed to be Sold: None.

(viii) Date Report Delivered to Congress: 18 October 2011.

Policy Justification

France—Upgrade of E-2C HAWKEYE Aircraft

The Government of France has requested a possible sale of the upgrade of four E-2C HAWKEYE Aircraft with weapon system sensor upgrades with Mode 5/S Identification Friend or Foe (IFF). Included are 5 APX-122 IFF Mode 5/S Interrogator Systems, 5 APX-123 IFF Mode 5/S Transponder Systems, and 5 ALQ-217 Electronic Support Measure Systems. In addition, this proposed sale will include related spare and repair parts, support and test equipment, weapon system support, development, publications and technical documentation, integration and testing, personnel training and equipment, U.S. Government and contractor engineering and logistics personnel support services, and other related elements of logistics support. The estimated cost is $180 million.

France is one of the major political and economic powers in Europe and NATO and an ally of the United States in the pursuit of peace and stability. It is vital to the U.S. national interest to assist France to develop and maintain a strong and ready self-defense capability.

France's current IFF Interrogator, transponder, and electronic support measures is old technology and requires upgrading to the most current technology. The proposed sale will give France Mode 5/S capabilities. France intends to incorporate these systems into its E-2C HAWKEYE Navigation upgrade aircraft. France has significant experience in operating and maintaining modern weapon systems and infrastructure required and will have no difficulty absorbing these systems into its armed forces.

The proposed sale of this equipment and support will not alter the basic military balance in the region.

The prime contractor will be Northrop Grumman Corporation in Bethpage, New York. There are no known offset agreements proposed in connection with this potential sale.

Implementation of this proposed sale will not require the assignment of any additional U.S. Government or contractor representatives to France.

There will be no adverse impact on the U.S. defense readiness as a result of this proposed sale.

[FR Doc. 2011-27551 Filed 10-24-11; 8:45 am]

BILLING CODE 5001-C